DEPARTMENT OF LABOR

Employment and Training Administration

[TA-W-53,145]

General Aluminum Manufacturing Co., Hudson Forge, Hudson, MI; Notice of Negative Determination Regarding Application for Reconsideration

By application of January 23, 2004, the International Union, United Automobile, Aerospace & Agricultural Implement Workers of America-UAW, requested administrative reconsideration of the Department's negative determination regarding eligibility to apply for Trade Adjustment Assistance (TAA), applicable to workers and former workers of the subject firm. The denial notice was signed on November 17, 2003, and published in the Federal Register on December 29, 2003 (68 FR 74977).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The petition for the workers of General Aluminum Manufacturing Co., Hudson Forge, Hudson, Michigan was denied because the “contributed importantly” group eligibility requirement of section 222 of the Trade Act of 1974, as amended, was not met. The “contributed importantly” test is generally demonstrated through a survey of customers of the workers' firm. The survey revealed that none of the respondents increased their purchases of exhaust manifolds and related automobile component parts. The company did not import exhaust manifolds and related automobile component parts, nor did the company shift production to a foreign source during the relevant period.

The union alleges that the subject firm is an upstream supplier for a trade-affected company. The petitioner states that Hudson Forge facility was a sister plant and an upstream supplier to Metalloy Corporation Machining Operations, Hudson, Michigan, workers of which were certified eligible for TAA on February 11, 2002. The union further alleges that the closing of the Metalloy Corporation Machining Operations resulted in Hudson Forge ceasing operations.

A company official was contacted in regard to these allegations. As a result, it was revealed that the subject firm supplied one part to the Metalloy Corporation Machining Operations, Hudson Michigan. In December of 2001, Metalloy Corporation Machining Operations, Hudson, Michigan shut down and moved its production to another General Aluminum Division in Fremont, Indiana, including the part manufactured by the subject firm. It was established that Metalloy Corporation Machining Operations, Hudson, Michigan ceased its production in December of 2001, which means that the subject firm did not supply components to this firm during the relevant period of this investigation. Furthermore, the review of the original investigation revealed that the value of sales and production at the subject facility increased in 2002 compared with 2001. Therefore the closure of Metalloy Corporation Machining Operations, Hudson, Michigan did not have an impact on the subject firm's production and did not result in subject firm's loss of business.

Conclusion

After review of the application and investigative findings, I conclude that there has been no error or misinterpretation of the law or of the facts which would justify reconsideration of the Department of Labor's prior decision. Accordingly, the application is denied.

Signed in Washington, DC this 8th day of March, 2004.
Elliott S. Kushner,
Certifying Officer, Division of Trade Adjustment Assistance.

[FR Doc. 04-6547 Filed 3-23-04; 8:45 am]

BILLING CODE 4510-30-P